DEPARTMENT OF DEFENSE

Office of the Secretary

Defense Science Board; Notice of Federal Advisory Committee Meeting

AGENCY: Under Secretary of Defense for Research and Engineering, Department of Defense (DoD).

ACTION: Notice of Federal Advisory Committee meeting.

SUMMARY: The Department of Defense (DoD) is publishing this notice to announce that the following Federal Advisory Committee meeting of the Defense Science Board (DSB) took place.

DATES: Closed to the public Tuesday, January 14, 2020 from 8:00 a.m. to 5:00 p.m. and Wednesday, January 15, 2020 from 8:00 a.m. to 4:00 p.m.

ADDRESSES: The address of the closed meeting is the Executive Conference Center at 4075 Wilson Blvd., Arlington, VA 22203.

FOR FURTHER INFORMATION CONTACT: Mr. Kevin Doxey, (703) 571-0081 (Voice), (703) 697-1860 (Facsimile), kevin.a.doxey.civ@mail.mil (Email). Mailing address is Defense Science Board, 3140 Defense Pentagon, Room 3B888A, Washington, DC 20301-3140. Website: http://www.acq.osd.mil/dsb/. The most up-to-date changes to the meeting agenda can be found on the website.

SUPPLEMENTARY INFORMATION: Due to circumstances beyond the control of the Department of Defense, the Defense Science Board was unable to provide public notification required by 41 CFR 102-3.150(a) concerning its scheduled meeting of January 14, 2020 through January 15, 2020. Accordingly, the Advisory Committee Management Officer for the Department of Defense, pursuant to 41 CFR 102-3.150(b), waives the 15-calendar day notification requirement.

This meeting is being held under the provisions of the Federal Advisory Committee Act (FACA) (5 U.S.C. Appendix), the Government in the Sunshine Act (5 U.S.C. 552b), and 41 CFR 102-3.140 and 102-3.150.

Purpose of the Meeting: The mission of the DSB is to provide independent advice and recommendations on matters relating to the DoD's scientific and technical enterprise. The objective of the meeting is to obtain, review, and evaluate classified information related to the DSB's mission. DSB members will meet to discuss classified future dimensions of conflict that might be exploited by our near-peer competitors and adversaries in response to the DSB's 2020 Summer Study on New Dimensions of Conflict tasking. Agenda: The DSB meeting will begin on January 14, 2020 at 8:00 a.m. with opening remarks by Mr. Kevin Doxey, the Designated Federal Officer (DFO), and Dr. Craig Fields, DSB Chairman. The members of the study will meet to discuss classified future dimensions of conflict that might be exploited by our near-peer competitors and adversaries. Following break, the members will resume their meeting. The meeting will adjourn at 5:00 p.m. On January 15, 2020 the meeting will begin at 8:00 a.m. with a discussion of classified future dimensions of conflict that might be exploited by our near-peer competitors and adversaries. Following break, the members will resume their meeting. The meeting will adjourn at 4:00 p.m.

Meeting Accessibility: In accordance with Section 10(d) of the FACA and 41 CFR 102-3.155, the DoD has determined that the DSB meeting will be closed to the public. Specifically, the Under Secretary of Defense (Research and Engineering), in consultation with the DoD Office of General Counsel, has determined in writing that the meeting will be closed to the public because it will consider matters covered by 5 U.S.C. 552b(c)(1). The determination is based on the consideration that it is expected that discussions throughout will involve classified matters of national security concern. Such classified material is so intertwined with the unclassified material that it cannot reasonably be segregated into separate discussions without defeating the effectiveness and meaning of the overall meetings. To permit the meeting to be open to the public would preclude discussion of such matters and would greatly diminish the ultimate utility of the DSB's findings and recommendations to the Secretary of Defense and to the Under Secretary of Defense (Research and Engineering).

Written Statements: In accordance with Section 10(a)(3) of the FACA and 41 CFR 102-3.105(j) and 102-3.140, interested persons may submit a written statement for consideration by the DSB at any time regarding its mission or in response to the stated agenda of a planned meeting. Individuals submitting a written statement must submit their statement to the DSB DFO provided in the FOR FURTHER INFORMATION CONTACT section at any point; however, if a written statement is not received at least three calendar days prior to the meeting, which is the subject of this notice, then it may not be provided to or considered by the DSB until a later date.

Dated: January 15, 2020.
Aaron T. Siegel,
Alternate OSD Federal Register Liaison Officer, Department of Defense.

[FR Doc. 2020-00916 Filed 1-21-20; 8:45 am]

BILLING CODE 5001-06-P